DEPARTMENT OF HEALTH AND HUMAN SERVICES

Administration for Children and Families

[OMB NO.: 0970-0354]

Proposed Information Collection Activity; Comment Request; The Early Head Start Family and Child Experiences Survey 2018 (Baby FACES 2018)

Description: The Administration for Children and Families (ACF) at the U.S. Department of Health and Human Services (HHS) seeks approval to collect descriptive information for the Early Head Start Family and Child Experiences Survey 2018 (Baby FACES 2018). This information collection is to provide nationally representative data on Early Head Start (EHS) programs, centers, classrooms, staff, and families to guide program planning, technical assistance, and research. The proposed data collection builds upon a prior study (Baby FACES 2009; OMB 0970-0354) that longitudinally followed two cohorts of children through their experience in the program. While that study provided a great deal of information about program participation over time and about services received by children and families, it did not allow for national level estimates of service quality, nor inferences about children who enter the program after 15 months of age. To fill these knowledge gaps and to answer additional questions about how programs function, the proposed Baby FACES 2018 design will include a cross-section of a nationally representative sample of programs, centers, home visitors, teachers, classrooms, children and families. This will allow nationally representative estimates at all levels at a point in time and will include the entire age span of enrolled children.

The goal of this work is to obtain updated information on EHS programs and understand better how program processes support relationships (e.g., between home visitors and parents, between parents and children, and between teachers and children) which are hypothesized to lead to improved child and family outcomes.

Respondents: Early Head Start program directors, child care center directors, teachers and home visitors, and parents of enrolled children.

Annual Burden Estimates
[2-Year clearance]
Instrument | Total number of respondents | Annual number of respondents | Number of responses per respondent | Average burden hours per response | Annual burden hours
Classroom/home visitor sampling form from EHS staff | 563 | 282 | 1 | .17 | 48
Child roster form from EHS staff | 563 | 282 | 1 | .33 | 93
Parent consent form | 2,475 | 1,238 | 1 | .17 | 210
Parent survey | 2,475 | 1,238 | 1 | .5 | 619
Parent Child Report (PCR) | 2,475 | 1,238 | 1 | .25 | 309
Staff survey (Teacher survey and Home Visitor survey) | 1,575 | 788 | 1 | .5 | 394
Staff Child Report (SCR) | 1,238 | 619 | 2 | .25 | 310
Program director survey | 150 | 75 | 1 | .5 | 38
Center director survey | 450 | 225 | 1 | .33 | 74

Estimated Total Annual Burden Hours: 2,095.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-07602 Filed 4-13-17; 8:45 am]

BILLING CODE 4184-22-P